DEPARTMENT OF HEALTH AND HUMAN SERVICES

Administration for Children and Families

Announcing the Award of a Single-Source Program Expansion Supplement Grant to the Futures Without Violence in San Francisco, CA

AGENCY: Family and Youth Services Bureau, ACYF, ACF, HHS.

ACTION: Notice of the award of a single-source program expansion supplement grant under the Family Violence Prevention and Services Act (FVPSA) Technical Assistance (TA) Project to the Futures Without Violence to support training and technical assistance activities.

CFDA Number: 93.592.

SUMMARY: The Administration for Children and Families (ACF), Administration on Children, Youth and Families (ACYF), Family and Youth Services Bureau (FYSB), Division of Family Violence Prevention and Services (DFVPS) announces the award of $270,000 as a single-source program expansion supplement to Futures Without Violence in San Francisco, CA. The grantee, funded under the Family Violence Protection and Services Act (FVPSA) program, is a technical assistance (TA) provider that serves as the FVPSA-funded National Health Resource Center on Domestic Violence.

DATES: The period of support is September 30, 2014 through September 29, 2015.

FOR FURTHER INFORMATION CONTACT: Shawndell Dawson, Senior Program Specialist, Family Violence Prevention and Services Program, 1250 Maryland Avenue SW., Suite 8219, Washington, DC 20024. Telephone: 202-205-1476; Email: Shawndell.Dawson@acf.hhs.gov.

SUPPLEMENTARY INFORMATION: Supplemental award funds will support the grantee in providing training and technical assistance to domestic violence service and health care providers. A portion of the supplemental award is contributed by the Health Resources and Services Administration (HRSA) and the Office on Women's Health (OWH) at the Department of Health and Human Services (HHS).

This award will expand the scope of Futures Without Violence's technical assistance activities to include additional activities on the following issues: Assessing and responding to domestic violence in health clinics; addressing dating violence and sexual assault on college campuses; and supporting children/youth experiencing domestic violence. This additional technical assistance and training may involve such activities as:

• Planning, coordinating, and evaluating a pre-conference institute on Sexual Assault and Dating Violence on College Campuses, as part of the 2015 National Conference on Health and Domestic Violence;

• providing technical assistance for three health centers to create health system changes that support providers and create sustainable responses to victims of intimate partner violence;

• providing training on comprehensive, culturally competent responses to domestic violence within a Patient Centered Medical Home model.

• creating new technical assistance resources that promote protective factors and resilience when working with children, youth, and teens impacted by domestic violence which includes fostering stronger relationships with their non-abusive parents or caregivers;

• providing training to domestic violence programs that improves consistent implementation of evidence-informed, trauma-informed, and culturally relevant programming for children, youth, and abused parents; and,

• developing new resources for the Web site, www.PromisingFuturesWithoutViolence.org.

Statutory Authority: The statutory authority for the FVSPA Program is under section 310 of the FVPSA, as amended by Section 201 of the CAPTA Reauthorization Act of 2010, Pub. L. 111-320. The Office on Women's Health authority for its additional funds is through Sections 1701(a)(3)(A), 1701(a)(5), and 1701(a)(8) of the Public Health Service Act; and the Economy Act (31 U.S.C. 1535/FAR 17.5). HRSA's authority for its funds is through Section 330 of the Public Health Service Act (42 U.S.C. § 254b).

Christopher Beach,
Senior Grants Policy Specialist, Office of Administration, Office of Financial Services, Division of Grants Policy.

[FR Doc. 2014-27131 Filed 11-14-14; 8:45 am]

BILLING CODE 4184-32-P